DEPARTMENT OF TRANSPORTATION

Federal Transit Administration

Intent To Prepare a Revised Environmental Impact Statement for the Silicon Valley Rapid Transit Project in Milpitas, San Jose, and Santa Clara, CA

AGENCY: Federal Transit Administration, U.S. Department of Transportation.

ACTION: Notice of Intent to prepare an Environmental Impact Statement.

SUMMARY: The Federal Transit Administration (FTA) and the Santa Clara Valley Transportation Authority (VTA) will prepare a Revised Environmental Impact Statement (EIS) for the proposed Silicon Valley Rapid Transit Project (SVRT Project), a 16.1-mile extension of the San Francisco Bay Area Rapid Transit District (BART) system from the planned BART Warm Springs Station in Fremont through Milpitas and San Jose to Santa Clara, California. The Revised EIS will be prepared in accordance with regulations implementing the National Environmental Policy Act (NEPA), as well as the provisions of the Safe, Accountable, Flexible, Efficient Transportation Equity Act: A Legacy for Users. The purpose of this Notice of Intent (NOI) is to inform interested parties of the plan to prepare a Revised EIS, to invite agency and public participation in the EIS process, and to announce public scoping meetings.

DATES: Written comments on the scope of the Revised EIS, including the Project's purpose and need statement, Project alternatives, environmental and community impacts to be evaluated, and evaluation methodologies should be sent to Tom Fitzwater, Environmental Resources Planning Manager, by October 29, 2007. Public scoping meetings will be held on October 9, 11, and 18, 2007 from 6:30 p.m. to 8:30 p.m. at the locations indicated under ADDRESSES below.

ADDRESSES: Written comments may be submitted by postal mail, e-mail, or fax, to: Tom Fitzwater, Environmental Resources Planning Manager, Santa Clara Valley Transportation Authority, Environmental Programs and Resources Management, 3331 North First Street, Building B-2, San Jose, CA 95134-1927. E-mail: SVRT.NEPA.EIS.Comments@vta.org. Fax: (408) 321-5787. Project Web site: http://www.vtabart-vta.org.

Comments may also be submitted at the public scoping meetings. The dates and locations of the public scoping meetings are:

October 9, 2007, Milpitas City Hall, Committee Meeting Room, 455 East Calaveras Boulevard, Milpitas, CA 95035.

October 11, 2007, San Jose City Hall, Wing 118-120, 200 East Santa Clara Street, San Jose, CA 95113.

October 18, 2007, City of Santa Clara, Santa Clara Senior Center, 1303 Fremont Street, Room 232, Santa Clara, CA 95050.

The scoping meeting facilities will be accessible to persons with disabilities. If special translation or signing services or other special accommodations are needed, please contact VTA Customer Service five days prior to the meeting at (408) 321-2300, or e-mail community.outreach@vta.org. To be placed on the Project mailing list, contact Tom Fitzwater, VTA Environmental Planning Resources Manager, as indicated above.

FOR FURTHER INFORMATION CONTACT: Jerome Wiggins, Transportation Program Specialist, Federal Transit Administration, San Francisco Regional Office, 201 Mission Street, Room 2210, San Francisco, CA 94105-1926, (415) 744-3115.

SUPPLEMENTARY INFORMATION: Purpose of the Revised EIS. The original Notice of Intent (NOI) to prepare an Environmental Impact Statement (EIS)/Environmental Impact Report (EIR) for the Silicon Valley Rapid Transit Project was issued on February 6, 2002. The original Draft EIS/EIR was released to the public on March 16, 2004. However, no action was taken to finalize the original Draft EIS. Due to the passage of time, changes in the Project and environmental setting, availability of new information, and funding considerations, a Revised EIS will be prepared. The Revised EIS will explore the environmental and community impacts of the Project and Project alternatives and will discuss actions to reduce or eliminate such impacts. Environmental issues to be examined include: Changes to the physical environment (air quality and global warming, biological resources, noise and vibration, water quality, floodplains, geology and seismicity, visual and aesthetics, hazardous materials, energy, utilities, and electromagnetic fields); changes to the social environment (land use, business displacements, community facilities, and neighborhood disruptions); changes to traffic and pedestrian circulation; changes to transit service and patronage; associated changes to traffic congestion; and changes to parklands and cultural resources. Impacts will be identified for both the construction phase and the long-term operation of the Project or Project alternatives.

Proposed Project Description: The SVRT Project Alternative would begin at the planned BART Warm Springs Station (to be implemented by 2013) in Fremont and proceed on the former Union Pacific Railroad right-of-way through Milpitas to south of Mabury Road in San Jose. The alignment would then descend into a subway tunnel, continue through downtown San Jose, and terminate at grade in Santa Clara near the Caltrain Station. The total length of the alignment would be 16.1 miles. Six stations are proposed with an additional future station in Milpitas. Passenger service would start in 2016, assuming funding is available. A Berryessa Extension Project (BEP) Alternative will also be included in the EIS to address the New Starts Candidate Project for federal funding purposes. The BEP Alternative would begin at the planned BART Warm Springs Station in Fremont and proceed on the former Union Pacific Railroad right-of-way through Milpitas to south of Mabury Road in San Jose. The total length of the alignment would be 9.3 miles. One station is proposed in Milpitas and one in San Jose. Passenger service for the BE Project would start in 2016, assuming funding is available.

Draft Project Purpose and Need: The purpose of the Project is to improve transit services and increase intermodal connectivity among transit routes and stations serving origins and destinations in Alameda County, Contra Costa County, Santa Clara County, and portions of the Central Valley. Meeting this overall Project purpose would address a variety of related needs in the SVRTC, including the following goals:

• Improve public transit service in this severely congested corridor by providing increased transit capacity and faster, convenient access throughout the San Francisco Bay Area Region, including southern Alameda County, central Contra Costa County, Tri-Valley, San Joaquin Valley, and Silicon Valley;

• Enhance regional connectivity through expanded, interconnected rapid transit services between BART in Alameda County and light rail and commuter rail in Silicon Valley;

• Accommodate future travel demand in the corridor by expanding modal options;

• Alleviate severe and increasing traffic congestion on the I-880 and I-680 freeways between Alameda County and Silicon Valley;

• Improve regional air quality by reducing auto emissions;

• Improve mobility options to employment, education, medical, retail, and entertainment centers for corridor residents, (in particular, low income, youth, elderly, disabled, and ethnic minority populations);

• Maximize transit usage and ridership; and

• Support local economic and land use plans and goals.

The Silicon Valley Rapid Transit Corridor (study area) is one of the most congested corridors in Northern California. Over the past several years, it has experienced very high and increasing levels of traffic congestion due to the growth of jobs throughout the Silicon Valley area, including downtown San Jose, and the cities of Fremont, Milpitas, and Santa Clara. Congestion is also spreading from the peak hours to off peak hours. Population and employment growth within the entire study area from 2000 to 2030, as forecast by the Association of Bay Area Governments, is expected to increase dramatically. Current levels of service (LOS) on highways in the corridor, I-680 and I-880, are “F” in the peak hour, with future level of service anticipated to continue to be LOS F. LOS F describes failure conditions with unacceptable delays to most vehicles, long queues, and stop-and-go flow. Planned improvements to highway and transit service in the study area are not expected to keep up with the demand for quality transit, given the increased highway congestion expected.

Proposed Project Alternatives: The 2004 Draft EIS evaluated three alternatives: the Future No-Build, a Transportation Systems Management alternative with enhanced bus service, and the proposed BART extension. On the basis of the Draft EIS, FTA and VTA have decided that the TSM alternative is not a reasonable alternative because it does not meet the Project's purpose and need. The buses, which operate on highways, are subject to the same congestion as automobiles. Therefore, the Revised EIS will evaluate the following alternatives, plus any additional alternatives that emerge from the scooping process.

• Future No-Build Alternative. This alternative consists of the existing transit and roadway networks and planned and programmed improvements in the Silicon Valley Rapid Transit Corridor that are identified in the Bay Area's Regional Transportation Plan (RTP), Mobility for the Next Generation—Transportation 2030 Plan for the San Francisco Bay Area (Transportation 2030 Plan), adopted by MTC in February 2005, and the Valley Transportation Plan 2030 (VTP 2030), adopted by VTA in February 2005.

• SVRT Project Alternative—BART Extension to Milpitas, San Jose, and Santa Clara. This alternative consists of a 16.1-mile extension of the BART system. The Project would begin at the planned BART Warm Springs Station in Fremont (to be implemented by 2013) and proceed on the former Union Pacific Railroad right-of-way through the City of Milpitas to south of Mabury Road in the City of San Jose. The extension would then descend into a subway tunnel, continue through downtown San Jose, and terminate at grade in the City of Santa Clara near the Caltrain Station. Six stations are proposed: Milpitas, Berryessa, Alum Rock, Downtown San Jose, Diridon/Arena, and Santa Clara. An additional future station in Milpitas is also proposed.

• Berryessa Extension Project Alternative. This alternative would begin at the planned BART Warm Springs Station in Fremont and proceed on the former Union Pacific Railroad right-of-way through Milpitas to south of Mabury Road in San Jose. The total length of the alignment would be 9.3 miles. Two stations are proposed: Milpitas and Berryessa.

Analytical Methodologies: FTA and VTA will collaborate with agencies and the public, as appropriate, on the methodologies to be used and the level of detail required in the analysis of proposed alternatives. Information on the methodologies for analysis will be sent to the appropriate agencies directly. Information will also be presented at the scoping meetings for public distribution. Both agencies and the public may comment, as described under DATES above.

The EIS Process and the Role of Agencies and the Public: The purpose of the EIS process is to explore in a public setting, potentially significant effects of implementing the proposed Project and Project alternatives on the physical, human, and natural environment. The major areas of investigation include, but are not limited to, the effect on historic resources in downtown San Jose, the noise impacts of the BART trains outside of the planned tunnel, and the vibration impacts of the BART trains both inside and outside of tunnel.

Regulations implementing NEPA, as well as provisions of the Safe, Accountable, Flexible, Efficient Transportation Equity Act: A Legacy for Users (SAFETEA-LU), call for agency and public involvement in the EIS process. Section 6002 of SAFETEA-LU requires that FTA and VTA extend an invitation to other Federal and non-Federal agencies and Indian tribes that may have an interest in the proposed Project to become a participating agency, and establish a plan for coordinating public and agency participation in and comment on the environmental review. A cooperating agency is defined as “any Federal agency which has jurisdiction by law or special expertise with respect to any environmental impact involved in a proposal. Accordingly, an invitation to become a cooperating or participating agency, as appropriate, will be extended to agencies and Indian tribes known to have an interest in the proposed Project. It is possible that we may not be able to identify all Federal and non-Federal agencies and Indian tribes that may have such an interest. Any Federal or non-Federal agency or Indian tribe interested in the proposed Project that does not receive an invitation to become a participating agency should notify, at the earliest opportunity, the Environmental Planning Resource Manager identified above under ADDRESSES above.

Agency and Public Involvement: A comprehensive agency and public involvement program has been developed. The Policy Advisory Board consisting of county, city, BART, and VTA officials; City Partnership Teams consisting of VTA and city staff representatives; and the External Technical Advisory Committee consisting of staff representatives from state, regional, county, city, and transit agencies; were established in 2002 and continue to meet regularly to provide guidance, discuss the proposed Project, and for coordination and technical input. Community Working Groups consisting of the leaders of neighborhood and business associations, community organizations, advocacy groups, major property owners, and planning commissioners were also established in 2002 for cities and specific geographical areas to communicate Project information to key members of the community and facilitate community input and participation. These mechanisms will be developed into a formal coordination plan that covers both agency and public involvement. The coordination plan will be posted on the Project Web site at http://www.vtabart-vta.org.

FTA Procedures: In accordance with 23 CFR 771.105(a) and 771.133, FTA will comply with all Federal environmental laws, regulations, and executive orders applicable to the proposed Project during the environmental review process to the maximum extent practical. These requirements include, but are not limited to, the regulations of the Council on Environmental Quality implementing NEPA (40 CFR parts 1500-1508 and 23 CFR part 771), the project-level air quality conformity regulation of the U.S. Environmental Protection Agency (EPA) (40 CFR part 93), section 404(b)(1) guidelines of EPA (40 CFR part 230), Executive Orders 11988, 11990, and 12898 regarding floodplains, wetlands, and environmental justice, respectively, Section 106 of the National Historic Preservation Act (36 CFR part 800), Section 7 of the Endangered Species Act (50 CFR part 402), and Section 4(f) of the Department of Transportation Act (23 CFR 771.135).

Related Documents: The Silicon Valley Rapid Transit Corridor, Major Investment Study Final Report (November 2001), the 2004 Draft EIS, the Final Environmental Impact Report (November 2004), and the Final Supplemental Environmental Impact Report (June 2007) are available for public review at the following public libraries:

• Dr. Martin Luther King, Jr. Main Library, 150 East San Fernando Street, San Jose, CA 95112.

• Fremont Main Library, 2400 Stevenson Boulevard, Fremont, CA 94538.

• Milpitas Library, 40 N. Milpitas Boulevard, Milpitas, CA 95035.

• Central Park Library, 2635 Homestead Road, Santa Clara, CA 95051.

The reports are also available by contacting Tom Fitzwater at the address and phone number given above.

Issued on: September 14, 2007.
Leslie Rogers,
Regional Administrator.

[FR Doc. 07-4666 Filed 9-20-07; 8:45 am]

BILLING CODE 4910-57-M